DEPARTMENT OF COMMERCE

National Oceanic and Atmospheric Administration

RIN: 0648-XH43

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene meetings of the Hawaii Archipelago Advisory Panel, the Hawaii Archipelago Plan Team and the Hawaii Archipelago Regional Ecosystem Advisory Committee in Honolulu, HI.

DATES: The Hawaii Archipelago Advisory Panel meeting will be held Tuesday, May 13, 2008. The Hawaii Archipelago Plan Team meeting will be held Wednesday, May 14 and Thursday, May 15, 2008. The Hawaii Archipelago Regional Ecosystem Advisory Committee meeting will be held Friday May 16, 2008. For the specific date, time, and agenda for each meeting, see SUPPLEMENTARY INFORMATION.

ADDRESSES: The meetings of the Hawaii Archipelago Advisory Panel and the Hawaii Archipelago Plan Team will be held at the Council office at 1164 Bishop Street, Suite 1400, Honolulu, HI 96813. The meeting of the Hawaii Archipelago Regional Ecosystem Advisory Committee will be held at the Pagoda Hotel 1525 Rycroft Street, Honolulu, HI 96814.

FOR FURTHER INFORMATION CONTACT: Kitty M. Simonds, Executive Director; telephone: (808) 522-8220.

SUPPLEMENTARY INFORMATION: The date, time and agenda for each meeting are as follows:

Tuesday, May 13, 2008, 10 a.m. - 5 p.m.

Hawaii Archipelago Advisory Panel

1. Status Report on 2007 Advisory Panel Recommendations

2. Emerging Fishery Issues

3. Bottomfish Fisheries

a. Main Hawaiian Islands Bottomfish Management Update

b. Bottomfish Aquaculture

4. Pelagic Fisheries

a. Hana Community Fish Aggregation Device

b. Hawaii Longline Swordfish Management

c. Non-longline Pelagic Fisheries Management

5. Other Fishery-Related Issues

a. Barter, Trade and Subsistence Issues

b. Marine Recreational Information Program

c. Council five year research priorities

d. Cooperative Research

6. Upcoming Council Fisheries Management Actions

a. Main Hawaiian Island Bottomfish Risk Assessment

b. Annual Catch Limits

c. Community Development Program Options

7. Discussion and Action

Wednesday, May 14, 2008, 8:30 a.m. - 5 p.m.

Hawaii Archipelago Plan Team

1. Seabed Biodiversity and Ecosystem Models of the Australian Great Barrier Reef

2. Update on Main Hawaiian Islands Bottomfish Management Actions

3. Review of Draft Annual Report Modules

a. Bottomfish

b. Coral Reef Ecosystem

c. Crustaceans

d. Precious Corals

4. Discussion and Action

Thursday, May 15, 2008, 8:30 a.m. - 5 p.m.

Hawaii Archipelago Plan Team

5. Fisheries Research

a. Council Five Year Research Priorities

b. Cooperative Research

c. Archipelagic Wide Research Needs

6. Upcoming Council Fisheries Management Actions

MHI Bottomfish Risk Assessment

7. 2007 Magnuson-Stevens Reauthorization

a. Marine Recreational Information Program

b. Annual Catch Limits

8. Hawaii Archipelago Advisory Panel Report

9. Discussion and Action

Friday, May 16, 2008, 9 a.m. - 5 p.m.

Hawaii Archipelago Regional Ecosystem Advisory Committee (REAC)

1. Upcoming Council Fisheries Management Actions

2. Community-based Resource Management Partnerships

a. Report from Federal REAC Members

b. Report from State REAC Members

c. Report from County REAC Members

3. Community Marine Management Forum

4. Discussion and Action

The order in which agenda items are addressed may change. Public comment periods will be provided throughout each agenda. The Advisory Panel, Plan Team and Regional Ecosystem Advisory Committee will meet as late as necessary to complete scheduled business.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 21, 2008.
Tracey L. Thompson,
Acting Director, Office of Sustainable Fisheries, National Marine Fisheries Service.

[FR Doc. E8-8940 Filed 4-23-08; 8:45 am]

BILLING CODE 3510-22-S